NATIONAL SCIENCE FOUNDATION

Agency Information Collection Activities: Comment Request; National Science Foundation (NSF) Innovation Corps (I-Corps™) Program Pre-submission Executive Summary Form

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: National Science Foundation (NSF) Innovation Corps (I-Corps™) Program Pre-submission Executive Summary Form.

OMB Control No.: 3145-0283.

Abstract: The NSF Innovation Corps (I-Corps) Teams Program Pre-Submission Executive Summary is an important component of the NSF I-Corps Teams pre-submission process and conveys information needed to direct the proposed team project to the appropriate NSF Program Director (PD) for review and possible proposal submission invitation. This Executive Summary (ES) is to be submitted by the applying team to the cognizant I-Corps Team's PD outlining solicitation-specific aspects of the project (such as proposed team members, technology, commercial application and NSF lineage). In the past, this ES was submitted via email as an attached two-page (maximum) document and was often in varying formats or missing some parts of the required ES elements. The NSF I-Corps Teams Executive Summary Form captures the same requested information, as outlined in NSF I-Corps Teams Program solicitation, but all within one secure, web-based form. In specific, the form collects submitting team member information (composition, roles and a brief description of each member's qualifications), Principal Investigator (PI) information (and a brief description of their connection to the team), NSF lineage (relevant current or previous NSF awards), brief descriptions of the core technology, the potential commercial application, and the current commercialization plan for the proposed technology. If the proposed I-Corps Team is applying based on participation in a local or regional NSF I-Corps Hub, Node or Site training session, the form will provide fields for the applying team to complete regarding the associated I-Corps Hub, Node or Site senior member's contact information (as a reference), the date of participation, and location of the associated Hub, Node or Site program.

Respondents: Investigators who submit proposals to NSF's I-Corps Teams Program.

Estimated Number of Annual Respondents: 1,500.

Burden on the Public: 1 hour (per response) for an annual total of 1,500 hours.

Dated: December 10, 2025.
Suzanne H. Plimpton,
Reports Clearance Officer, National Science Foundation.

[FR Doc. 2025-22673 Filed 12-11-25; 8:45 am]

BILLING CODE 7555-01-P